DEPARTMENT OF TRANSPORTATION

Federal Aviation Administration

14 CFR Part 39

[Docket No. FAA-2011-1212; Directorate Identifier 2011-CE-034-AD; Amendment 39-16923; AD 2012-01-11]

RIN 2120-AA64

Airworthiness Directives; Cirrus Design Corporation Airplanes

AGENCY: Federal Aviation Administration (FAA), DOT.

ACTION: Final rule.

SUMMARY: We are adopting a new airworthiness directive (AD) for certain Cirrus Design Corporation (Cirrus) Model SR22T airplanes. This AD was prompted by reports of partial loss of engine power due to a dislodged rubber gasket/seal being ingested into the turbocharger. This AD requires inspection and modification of the air box flange welds and slots and installation of induction system air box seals as applicable. We are issuing this AD to correct the unsafe condition on these products.

DATES: This AD is effective February 29, 2012.

The Director of the Federal Register approved the incorporation by reference of a certain publication listed in the AD as of February 29, 2012.

ADDRESSES: For service information identified in this AD, contact Cirrus Design Corporation, 4515 Taylor Circle, Duluth, Minnesota 55811-1548, phone: (218) 788-3000; fax: (218) 788-3525; email: fieldservice@cirrusaircraft.com; Internet: http://www.cirrusaircraft.com. You may review copies of the referenced service information at the FAA, Small Airplane Directorate, 901 Locust, Kansas City, Missouri 64106. For information on the availability of this material at the FAA, call (816) 329-4148.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: (800) 647-5527) is Document Management Facility, U.S. Department of Transportation, Docket Operations, M-30, West Building Ground Floor, Room W12-140, 1200 New Jersey Avenue SE., Washington, DC 20590.

FOR FURTHER INFORMATION CONTACT: Michael Downs, Propulsion Engineer, Chicago ACO, FAA, O'Hare Lake Office Center, 2300 East Devon Ave., Des Plaines, Illinois 60018; phone: (847) 294-7870; fax: (847) 294-7834; email: michael.downs@faa.gov.

SUPPLEMENTARY INFORMATION:

Discussion

We issued a notice of proposed rulemaking (NPRM) to amend 14 CFR part 39 to include an AD that would apply to the specified products. That NPRM published in the Federal Register on November 2, 2011 (76 FR 67631). That NPRM proposed to require inspection and modification of the air box flange welds and slots and installation of induction system air box seals as applicable.

Comments

We gave the public the opportunity to participate in developing this AD. We received no comments on the NPRM (76 FR 67631, November 2, 2011) or on the determination of the cost to the public.

Conclusion

We reviewed the relevant data and determined that air safety and the public interest require adopting the AD as proposed except for minor editorial changes. We have determined that these minor changes:

• Are consistent with the intent that was proposed in the NPRM (76 FR 67631, November 2, 2011) for correcting the unsafe condition; and

• Do not add any additional burden upon the public than was already proposed in the NPRM.

Costs of Compliance

We estimate that this AD affects 67 airplanes of U.S. registry.

We estimate the following costs to comply with this AD:

Estimated Costs
Action | Labor cost | Parts cost | Cost per product | Cost on U.S. operators
Replacement of the induction system air box seals and extension of air box flange slots | 2.5 work-hours × $85 per hour = $212.50 | $139 | $351.50 | $23,550.50

According to the manufacturer, all of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2012-01-11 Cirrus Design Corporation Airplanes: Amendment 39-16923; Docket No. FAA-2011-1212; Directorate Identifier 2011-CE-034-AD.

(a) Effective Date

This AD is effective February 29, 2012.

(b) Affected ADs

None.

(c) Applicability

This AD applies to the following model and serial number airplanes, certificated in any category:

(1) Group 1 Airplanes: Cirrus Design Corporation Model SR22T airplanes, serial numbers 0001 through 0169, except 0004, 0019, 0027, 0047, 0097, 0126, 0127, 0135, 0138, 0139, 0144, 0154, 0155, 0157, 0158, 0159, 0160, 0161, and 0163.

(2) Group 2 Airplanes: Cirrus Design Corporation Model SR22T airplanes, serial numbers 0004, 0019, 0027, 0047, 0097, 0126, 0127, 0135, 0138, 0139, 0144, 0155, 0157, 0158, 0160, and 0161. These airplanes had the reinforced silicone fiberglass seals installed at the factory but the box flange welds and slots may be incorrectly modified. Therefore, this AD still applies to these airplanes.

(d) Subject

Joint Aircraft System Component (JASC) Code 7160, Engine Air Intake.

(e) Unsafe Condition

This AD was prompted by reports of partial loss of engine power due to a dislodged rubber gasket/seal being ingested into the turbocharger. We are issuing this AD to inspect and modify the air box flange welds and slots and install induction system air box seals as applicable.

(f) Compliance

Comply with this AD following Cirrus Design Corporation SR22T Service Bulletin SB 2X-71-17 R1, dated September 30, 2011, within the compliance times specified, unless already done.

(g) Actions

(1) Group 1 Airplanes: Within the next 10 hours time-in-service (TIS) after February 29, 2012 (the effective date of this AD), inspect the air box flange welds and slots, make modifications as necessary, and replace the induction air box seals with reinforced silicone fiberglass seals part number 29486-001.

(2) Group 2 Airplanes: Within the next 10 hours TIS after February 29, 2012 (the effective date of this AD), inspect the air box flange welds and slots and, as necessary, make modifications.

(h) Credit for Actions Accomplished in Accordance With Previous Service Information

Credit will be given for actions required in paragraphs (g)(1) and (g)(2) of this AD if already done before February 29, 2012 (the effective date of this AD) following Cirrus Design Corporation SR22T Service Bulletin SB 2X-71-17, dated July 21, 2011.

(i) Alternative Methods of Compliance (AMOCs)

(1) The Manager, Chicago Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your appropriate principal inspector, or lacking a principal inspector, the manager of the local flight standards district office/certificate holding district office.

(j) Related Information

For more information about this AD, contact Michael Downs, Propulsion Engineer, Chicago ACO, FAA, O'Hare Lake Office Center, 2300 East Devon Ave., Des Plaines, Illinois 60018; phone: (847) 294-7870; fax: (847) 294-7834; email: michael.downs@faa.gov.

(k) Material Incorporated by Reference

(1) You must use Cirrus Design Corporation SR22T Service Bulletin SB 2X-71-17 R1, dated September 30, 2011, to do the actions required by this AD, unless the AD specifies otherwise. The Director of the Federal Register approved the incorporation by reference (IBR) under 5 U.S.C. 552(a) and 1 CFR part 51.

(2) For service information identified in this AD, contact Cirrus Design Corporation, 4515 Taylor Circle, Duluth, Minnesota 55811-1548, phone: (218) 788-3000; fax: (218) 788-3525; email: fieldservice@cirrusaircraft.com; Internet: http://www.cirrusaircraft.com.

(3) You may review copies of the service information at the FAA, Small Airplane Directorate, 901 Locust, Kansas City, Missouri 64106. For information on the availability of this material at the FAA, call (816) 329-4148.

(4) You may also review copies of the service information that is incorporated by reference at the National Archives and Records Administration (NARA). For information on the availability of this material at NARA, call (202) 741-6030, or go to: http://www.archives.gov/federal-register/cfr/ibr-locations.html.

Issued in Kansas City, Missouri, on January 13, 2012.
John Colomy,
Acting Manager, Small Airplane Directorate, Aircraft Certification Service.

[FR Doc. 2012-1122 Filed 1-24-12; 8:45 am]

BILLING CODE 4910-13-P